EXPORT-IMPORT BANK OF THE UNITED STATES

Sunshine Act Meeting

ACTION: Notice of Open Meeting of the Advisory Committee of the Export-Import Bank of the United States (Export-Import Bank).

TIME AND PLACE: September 25, 2012 from 9:30 a.m. to 12:30 p.m. The meeting will be held at the Export-Import Bank in Room 326, 811 Vermont Avenue NW., Washington, DC 20571.

SUMMARY: The Advisory Committee was established November 30, 1983, to advise the Export-Import Bank on its programs and to provide comments for inclusion in the reports of the Export-Import Bank of the United States to Congress.

AGENDA: Presentations by Export-Import Bank staff on its priority congressional mandates on Sub-Saharan Africa, renewable energy and small business; an update by the Export Import Bank on its fiscal year-end business portfolio; and discussion led by the Advisory Committee on its recommendations for the Export-Import Bank's programs.

PUBLIC PARTICIPATION: The meeting will be open to public participation, and the last 10 minutes will be set aside for oral questions or comments. Members of the public may also file written statement(s) before or after the meeting. If any person wishes auxiliary aids (such as a sign language interpreter) or other special accommodations, please contact, prior to September 25, 2012, Richard Thelen, 811 Vermont Avenue NW., Washington, DC 20571, Voice: (202) 565-3515 or TDD (202) 565-3377.

FOR FURTHER INFORMATION CONTACT: For further information, contact Richard Thelen, 811 Vermont Avenue NW., Washington, DC 20571, (202) 565-3515.

Sharon A. Whitt,
Agency Clearance Officer.

[FR Doc. 2012-22349 Filed 9-6-12; 4:15 pm]

BILLING CODE 6690-01-P